ENVIRONMENTAL PROTECTION AGENCY

[EPA-HQ-OPPT-2020-0413; FRL-11604-01-OCSPP]

Agency Information Collection Activities; Proposed Renewal of an Existing ICR Collection and Request for Comment; Toxic Substances Control Act (TSCA) Section 8(b) Reporting and Requirements for TSCA Inventory Notifications

AGENCY: Environmental Protection Agency (EPA).

ACTION: Notice.

SUMMARY: In compliance with the Paperwork Reduction Act (PRA), this document announces the availability of and solicits public comment on the following Information Collection Request (ICR) that EPA is planning to submit to the Office of Management and Budget (OMB): “TSCA Section 8(b) Reporting Requirements for TSCA Inventory Notifications,” identified by EPA ICR No. 2565.04 and OMB Control No. 2070-0201. This ICR represents a renewal of an existing ICR that is currently approved through January 31, 2025. Before submitting the ICR to OMB for review and approval under the PRA, EPA is soliciting comments on specific aspects of the information collection that is summarized in this document. The ICR and accompanying material are available in the docket for public review and comment.

DATES: Comments must be received on or before June 24, 2024.

ADDRESSES: Submit your comments, identified by docket identification (ID) number EPA-HQ-OPPT-2020-0413, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Katherine Sleasman, Mission Support Division (7602M), Office of Program Support, Office of Chemical Safety and Pollution Prevention, Environmental Protection Agency, 1200 Pennsylvania Ave. NW, Washington, DC 20460-0001; telephone number: (202) 566-1206; email address: sleasman.katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What Information Collection Activity or ICR does this action apply to?

Title: TSCA Section 8(b) Reporting Requirements for TSCA Inventory Notifications.

EPA ICR No.: 2565.04.

OMB Control No.: 2070-0201.

ICR status: This ICR is currently approved through January 31, 2025. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR addresses the reporting and recordkeeping requirements under TSCA section 8(b) that are associated with the TSCA Chemical Substance Inventory (TSCA Inventory), as codified in 40 CFR part 710. TSCA section 8(b) specifically requires that EPA compile and keep current a list of chemical substances manufactured or processed for commercial purposes in the United States. That mandate was amended in 2016 and TSCA section 8(b)(4) requires EPA to designate chemical substances on the TSCA Chemical Substance Inventory as either “active” or “inactive” in U.S. commerce. The first TSCA Inventory with all chemical substances designated as “active” or “inactive” published in February 2019.

This ICR addresses the activities and burdens associated with the ongoing reporting (EPA Form No. 9600-06; Notice of Activity Form B), including the substantiation of CBI and related recordkeeping requirements in 40 CFR part 710, and accounts for estimates from the ICR titled “Final Rule; Procedures for Review of CBI Claims for the Identity of Chemicals on the TSCA Inventory (Notice of Activity Form As)” (OMB Control No. 2070-0210; EPA ICR No. 2594.03). EPA finalized the requirements for regulated entities to substantiate certain CBI claims made under the TSCA to protect the specific chemical identities of chemical substances on the confidential portion of the TSCA Inventory, and the Agency's plan for reviewing certain CBI claims for specific chemical identities in a final rule titled “Procedures for Review of CBI Claims for the Identity of Chemicals in the TSCA Inventory” (85 FR 13062, March 6, 2020 (FRL-10005-48)). The substantiation requirements describe the applicable procedures and provide instructions for regulated entities. The Agency's plan set out the review criteria and related procedures that EPA will use to complete the reviews within the five-year timeframe set in TSCA, and the ongoing reporting and recordkeeping activities are incorporated into this ICR.

Burden statement: The annual public reporting and recordkeeping burden for this collection of information is estimated to average 147 hours per response. Burden is defined in 5 CFR 1320.3(b).

The ICR, which is available in the docket along with other related materials, provides a detailed explanation of the collection activities and the burden estimate that is only briefly summarized here:

Respondents/affected entities: Entities potentially affected are those that manufacture (defined by statute to include import) or process chemical substances that are regulated under TSCA. The following North American Industrial Classification System (NAICS) codes have been provided to assist in determining whether this action might apply to certain entities:

• NAICS Code 325 Chemical Manufacturers; and

• NACIS Code 324 Petroleum and Coal Products.

Respondent's obligation to respond: Mandatory, per 40 CFR part 710 and TSCA section 8.

Frequency of response: On occasion.

Total estimated number of potential respondents: 57.

Total estimated average number of responses for each respondent: 1.5.

Total estimated annual respondent burden hours: 143.6 hours.

Total estimated annual respondent costs: $19,956.68, which includes $0 for capital investment or maintenance and operational costs.

III. Are there changes in the estimates from the last approval?

There is a decrease of 90 hours in the total estimated respondent burden compared with that identified in the ICR currently approved by OMB. This decrease reflects a reduction in the estimated number of chemicals reported in each submission, i.e., from 18 to an average one chemical. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: April 18, 2024.
Michal Freedhoff,
Assistant Administrator, Office of Chemical Safety and Pollution Prevention.

[FR Doc. 2024-08637 Filed 4-22-24; 8:45 am]

BILLING CODE 6560-50-P